OFFICE OF SCIENCE AND TECHNOLOGY POLICY

Consumer Interface With the Smart Grid

AGENCY: Office of Science and Technology Policy (OSTP), Executive Office of the President.

ACTION: Notice; request for public comment.

SUMMARY: With this notice, the Office of Science and Technology Policy (OSTP) within the Executive Office of the President requests input from the public regarding the consumer interface with the modernized electric grid (“Smart Grid”), which is a vital component of the President's comprehensive energy plan. In particular, we seek comments on issues related to Smart Grid implementation options, including the ways in which each option would support open innovation in home energy services. This Request for Information (RFI) will be active from February 10, 2010 to February 19, 2010. Respondents are invited to respond online via the Smart Grid Forum at http://blog.ostp.gov/category/smart-grid, or may submit responses via electronic mail. Electronic mail responses will be re-posted on the online forum. Instructions are provided at http://blog.ostp.gov/category/smart-grid.

DATES: Comments must be received by 5 p.m. EST on February 19, 2010.

ADDRESSES: Submit comments by one of the following methods:

• Smart Grid Forum: http://blog.ostp.gov/category/smart-grid.

• Via E-mail: smartgrid@ostp.gov.

• Mail: Office of Science and Technology Policy, Attn: Open Government Recommendations, 725 17th Street, Washington, DC 20502.

Comments submitted in response to this notice may be made available to the public online or by alternative means. For this reason, please do not include in your comments information of a confidential nature, such as sensitive personal information or proprietary information. If you submit an e-mail comment, your e-mail address will be captured automatically and included as part of the comment that is placed in the public docket and made available on the Internet.

FOR FURTHER INFORMATION CONTACT: Dr. Kevin Hurst, Assistant Director for Energy Technology, Office of Science and Technology Policy, Executive Office of the President, Attn: Open Government, 725 17th Street, NW., Washington, DC 20502, 202-456-7116.

SUPPLEMENTARY INFORMATION:

I. Background

Modernization of the Nation's electric grid is a vital component of the President's comprehensive energy plan, which aims to reduce U.S. dependence on foreign oil, create jobs, and help U.S. industry compete successfully in global markets for clean energy technology.

Seventy-two percent of the Nation's electricity is consumed in buildings, and nearly half of that is in homes. Optimizing building energy consumption, especially during peak load periods, can improve the reliability, security, and efficiency of the electric grid while reducing energy costs to consumers. The “Smart Grid”—a modernized electricity transmission and distribution system involving the increased use of digital information and controls technology—can help to realize these benefits. Demand-side Smart Grid technologies include “smart meters” (which provide two-way, near-real-time data communications between the utility and consumer premises), “smart appliances” (which provide data communications and control options), and “smart interfaces” that can integrate distributed energy resources, demand response resources, or other energy loads and storage devices such as plug-in electric and hybrid electric vehicles.

The Smart Grid will help to provide consumers with the information, automation, and tools they need to control and optimize energy use. This control and optimization requires interoperability and information exchange between the grid and a wide variety of energy-using devices and controllers, such as thermostats, water heaters, appliances, consumer electronics, and energy management systems. The Department of Energy (DOE) Smart Grid Investment Grant program, funded by the American Recovery and Reinvestment Act, is accelerating deployment of smart meters and other components of an advanced electric grid.

In many instances, smart meters will have the capability to communicate near-real-time measurements of electricity usage to the utility and the consumer. In some implementations, data can be provided to the consumer directly from the smart meter (or another monitoring device) through an in-home display or energy management system via a local communications interface. In other implementations, consumers or their authorized agents can obtain their usage data via the internet from an information system at the utility.

One of the goals of the Smart Grid is to enable innovation and competition in new products and services that can help consumers minimize both peak and overall energy usage and save money. To be most effective, the Smart Grid will need to provide not only usage data but also information such as electricity price data and demand response signals to the consumer and energy-using devices in the home. This information could be provided to the consumer's home devices either through the smart meter's local communication interface or through a separate gateway, provided either by the utility or a third-party service provider. In order to clarify the various implementation options, we seek comments on issues related to the demand-side Smart Grid architecture, including potential costs, benefits, implementation hurdles, and the ways in which each option would support open innovation in home energy services.

A robust, secure, and flexible architecture based on open standards is needed for information exchange between the home and the Smart Grid. Section 1305 of the Energy Independence and Security Act of 2007 advises that the Smart Grid interoperability framework be designed to “* * * consider the use of voluntary uniform standards for certain classes of mass-produced electric appliances and equipment for homes and businesses that enable customers, at their election and consistent with applicable State and Federal laws, and are manufactured with the ability to respond to electric grid emergencies and demand response signals” * * *. The diversity of communications technologies and standards used by devices in the home presents a significant challenge to achieving interoperability. A balance must be struck between maximizing innovation and customer choice, while ensuring reliability and a sufficiently standardized environment so that manufacturers can produce cost-effective Smart Grid-enabled appliances that work anywhere in the Nation. That balance must also include the need for cost-effective Smart Grid infrastructure. In addition, ensuring cyber security in the home-to-grid interface is a critical consideration.

The Smart Grid must provide benefits to a wide variety of consumers. Some consumers who have many energy-using appliances and devices may wish to have the grid interoperate with an existing home area network and a sophisticated home energy management system. Other consumers with simpler circumstances may not have the desire, skill, or means to configure a home area network and may simply wish to plug in a new, Smart-Grid-enabled appliance and have it automatically communicate with the grid in order to realize energy-saving benefits. The diversity of consumer needs must be considered in the design and deployment of Smart Grid infrastructure and devices.

The Executive Branch is considering ways to ensure that the consumer interface to the Smart Grid achieves the desired goal of providing all consumers with the information they need to control and optimize their energy use in a manner that ensures ease of use, widespread adoption, and innovation. The National Institute of Standards and Technology (NIST), pursuant to the Energy Independence and Security Act of 2007, recently published the first release of an interoperability framework for the Smart Grid (NIST Special Publication 1108, available at http://www.nist.gov/public_affairs/releases/smartgrid_interoperability_final.pdf), which includes discussion of these issues and identifies the need for further work to provide solutions.

II. Invitation To Comment

Input is welcome on issues related to the architecture of the consumer interface with the Smart Grid as well as consumer ownership of Smart Grid data. Questions that individuals may wish to address include, but are not limited to the following. As part of your submission, please indicate the question to which your answer responds.

1. Should the smart meter serve as the primary gateway for residential energy usage data, price data, and demand response signals? What are the most important factors in making this assessment, and how might those factors change over time?

2. Should a data gateway other than the smart meter be used for all or a subset of the data described in question 1?

3. If the smart meter, via the utility network, is the primary gateway for the data described in question 1, will consumers and their authorized third-party service providers be able to access the data easily and in real time?

4. Who owns the home energy usage data? Should individual consumers and their authorized third-party service providers have the right to access energy usage data directly from the meter?

5. How are low-income consumers best served by home-to-grid technology?

6. What alternative architectures involving real-time (or near-real-time) electricity usage and price data are there that could support open innovation in home energy services?

Please note that several important Smart Grid topics—including Federal and State policy hurdles, appliance interoperability standards, cyber security, and business case challenges—are beyond the scope of this request, except insofar as they bear on the primary topics identified above. One or more future requests for comment may be organized to obtain input on these additional issues. Discussions of all of the above topics are also ongoing in several forums, including the Smart Grid Interoperability Panel established by NIST and the GridWise Architecture Council established by DOE. Relevant input received through this request will be shared with NIST, DOE, and other interested Federal agencies.

M. David Hodge,
Operations Manager.

[FR Doc. 2010-2813 Filed 2-8-10; 8:45 am]

BILLING CODE P